DEPARTMENT OF TRANSPORTATION

Federal Aviation Administration

14 CFR Part 39

[Docket No. FAA-2016-9519; Product Identifier 2016-NM-099-AD]

RIN 2120-AA64

Airworthiness Directives; Airbus Airplanes

AGENCY: Federal Aviation Administration (FAA), DOT.

ACTION: Supplemental notice of proposed rulemaking (SNPRM); reopening of comment period.

SUMMARY: We are revising an earlier proposal for certain Airbus Model A318-112, A319-115, A320-214, A320-232, and A321-111 airplanes. This action revises the notice of proposed rulemaking (NPRM) by adding airplanes to the applicability and removing others that were inadvertently included due to typographical errors. We are proposing this airworthiness directive (AD) to address the unsafe condition on these products. Since these actions would impose an additional burden over those in the NPRM, we are reopening the comment period to allow the public the chance to comment on these changes.

DATES: The comment period for the NPRM published in the Federal Register on January 3, 2017 (82 FR 50), is reopened.

We must receive comments on this SNPRM by December 26, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221.

Examining the AD Docket

You may examine the AD docket on the Internet at http://www.regulations.gov by searching for and locating Docket No. FAA-2016-9519; or in person at the Docket Management Facility between 9 a.m. and 5 p.m., Monday through Friday, except Federal holidays. The AD docket contains this SNPRM, the regulatory evaluation, any comments received, and other information. The street address for the Docket Office (telephone: 800-647-5527) is in the ADDRESSES section. Comments will be available in the AD docket shortly after receipt.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2016-9519; Product Identifier 2016-NM-099-AD” at the beginning of your comments. We specifically invite comments on the overall regulatory, economic, environmental, and energy aspects of this SNPRM. We will consider all comments received by the closing date and may amend this SNPRM based on those comments.

We will post all comments we receive, without change, to http://www.regulations.gov, including any personal information you provide. We will also post a report summarizing each substantive verbal contact we receive about this SNPRM.

Discussion

We issued an NPRM to amend 14 CFR part 39 by adding an AD that would apply to certain Airbus Model A318-112, A319-115, A320-214, A320-232, and A321-111 airplanes. The NPRM published in the Federal Register on January 3, 2017 (82 FR 50) (“the NPRM”). The NPRM was prompted by in-service experience and further analysis, which showed that the galley 5 without kick-load retainers was unable to withstand the expected loading during several flight phases or in case of an emergency landing. The NPRM proposed to require modification of galley 5 by adding kick-load retainers.

Actions Since the NPRM Was Issued

Since we issued the NPRM, we determined that we inadvertently specified that Model A318-112 airplanes were included in the applicability (in paragraph (c) of the proposed AD). In addition, we specified in SUMMARY and the “Discussion” section of SUPPLEMENTARY INFORMATION that “certain Airbus Model A318” series airplanes were affected. However, as specified in European Aviation Safety Agency (EASA) AD 2016-0040, dated March 2, 2016 (referred to after this as the Mandatory Continuing Airworthiness Information, or “the MCAI”), Model A319-112 airplanes are affected, and Model A318 airplanes are not included in the applicability.

In addition, in paragraph (c) of the proposed AD, we inadvertently included Model A321-111 airplanes in the applicability. However, Model A321-211 airplanes are affected as specified in the MCAI.

Since we did not include the Model A319-112 or Model A321-211 airplanes in the NPRM and there are affected airplanes on the U.S. register, we are issuing this SNPRM to include Model A319-112 and Model A321-211 airplanes in the applicability.

EASA, which is the Technical Agent for the Member States of the European Union, has issued the MCAI to correct an unsafe condition for certain Airbus Model A319-112, A319-115, A320-214, A320-232, and A321-211 airplanes. The MCAI states:

Following in-service experience and further analyses, it was ascertained that the galley 5 without kick load retainers on external position could not withstand the expected loading during several flight phases or in case of emergency landing.

This condition, if not corrected, could lead to galley/trolley detachment and collapse into an adjacent cabin aisle or cabin zone, possibly spreading loose galley equipment items, compartment doors or leaking fluids, blocking an evacuation route, and consequently resulting in injury to crew or passengers.

To address this potential unsafe condition, Airbus issued 6 Service Bulletins (SB) to provide modification instructions for the affected aeroplanes.

For the reasons described above, this [EASA] AD requires modification of galley 5 trolley compartments to install kick load retainers.

You may examine the MCAI in the AD docket on the Internet at http://www.regulations.gov by searching for and locating Docket No. FAA-2016-9519.

Related Service Information Under 1 CFR Part 51

Airbus has issued Service Bulletin A320-25-1B29, dated June 19, 2014; and Service Bulletin A320-25-1B30, dated June 19, 2014. This service information describes procedures for installing kick-load retainers on certain galley 5 trolley compartments. These documents are distinct since they apply to different airplane configurations. This service information is reasonably available because the interested parties have access to it through their normal course of business or by the means identified in the ADDRESSES section.

Comments

We gave the public the opportunity to participate in developing this proposed AD. We considered the comments received.

Support for the NPRM

American Airlines had no objections to the NPRM.

Request To Reconcile a Difference Between the AD Applicability and the AD Required Action

Spirit Airlines noted that manufacturer's serial number (MSN) 5672 is not listed in paragraph (c) of the proposed AD (the applicability), but is listed in paragraph (g)(2) of the proposed AD as an airplane on which the kick-load retainers must be installed.

We agree that there is a discrepancy between paragraphs (c) and (g)(2) of the proposed AD. We have determined that MSN 5672 is not affected by the identified unsafe condition. We have removed MSN 5672 from paragraph (g)(2) of this proposed AD accordingly.

Request To Add Certain MSNs to the AD Required Action

Spirit Airlines requested that certain MSNs that are shown in paragraph (c) of the proposed AD be added to paragraph (g) of the proposed AD and that we refer to Airbus Service Bulletin A320-25-1BBZ, dated October 2, 2015, as the appropriate source of service information for the applicable required actions.

We disagree that Airbus Service Bulletin A320-25-1BBZ, dated October 2, 2015, should be added to paragraph (g) of this proposed AD. Airbus Service Bulletin A320-25-1BBZ, dated October 2, 2015, has not been reviewed and approved by the FAA for accomplishing the installation required by this proposed AD. The requirements for the MSNs identified by the commenter are included in paragraph (g)(3) of this proposed AD, which specifies that the installation must be done using a method approved by the Manager, International Section, Transport Standards Branch, FAA; or EASA; or Airbus's EASA Design Organization Approval (DOA). We have not changed this proposed AD in this regard.

Request To Exclude Aircraft on Which the Required Actions Have Been Accomplished

Spirit Airlines requested we exclude airplanes on which Airbus Service Bulletin A320-25-1BCN, dated December 22, 2015, has been accomplished. Spirit Airlines stated that accomplishing the service bulletin removes galley 5.

We agree that the actions required by this proposed AD are not required on airplanes on which galley 5 has been removed. We have revised paragraph (g) of this AD accordingly.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this SNPRM affects 19 airplanes of U.S. registry.

We estimate the following costs to comply with this SNPRM:

Estimated Costs
Action | Labor cost | Parts cost | Cost per product | Cost on U.S. operators
Modification | 2 work-hours × $85 per hour = $170 | $0 | $170 | $3,230

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9519; Product Identifier 2016-NM-099-AD.

(a) Comments Due Date

We must receive comments by December 26, 2017.

(b) Affected ADs

None.

(c) Applicability

This AD applies to Airbus Model A319-112, A319-115, A320-214, A320-232, and A321-211 airplanes, certificated in any category, manufacturer's serial numbers 1479, 3096, 3693, 3713, 3739, 3791, 3896, 3902, 3907, 3931, 3949, 3969, 4030, 4045, 4049, 4059, 4066, 4077, 4083, 4124, 4146, 4158, 4188, 4198, 4206, 4209, 4218, 4235, 4255, 4264, 4304, 4321, 4371, 4374, 4395, 4411, 4417, 4431, 4485, 4492, 4502, 4528, 4541, 4548, 4592, 4595, 4638, 4651, 4669, 4703, 4724, 4737, 4746, 4770, 4780, 4783, 4826, 4827, 4860, 4863, 4865, 4902, 4934, 4945, 4951, 4952, 4971, 4996, 5023, 5029, 5042, 5088, 5095, 5132, 5159, 5164, 5171, 5175, 5192, 5210, 5227, 5241, 5247, 5251, 5275, 5277, 5297, 5306, 5340, 5343, 5348, 5356, 5366, 5370, 5385, 5387, 5392, 5396, 5400, 5407, 5418, 5427, 5438, 5456, 5458, 5469, 5495, 5517, 5555, 5624, 5674, 5678, 5698, 5699, 5704, 5709, 5714, 5791, 5745, 5753, 5761, 5781, 5786, 5788, 5789, 5798, 5804, 5810, 5821, 5827, 5842, 5874, 5882, 5889, 5903, 5907, 5916, 5924, 5958, 5984, 5994, 6000, 6004, 6054, 6080, 6107, 6166, 6176, 6234, 6266, 6293, 6335, 6344, 6365, 6430, and 6444.

(d) Subject

Air Transport Association (ATA) of America Code 25, Equipment/furnishings.

(e) Reason

This AD was prompted by in-service experience and further analysis, which showed that the galley 5 without kick-load retainers was unable to withstand the expected loading during several flight phases or in case of emergency landing. We are issuing this AD to prevent galley/trolley detachment and collapse into an adjacent cabin aisle or cabin zone, possibly spreading loose galley equipment items, compartment doors, or leaking fluids. These hazards could block an evacuation route and result in injury to crew or passengers.

(f) Compliance

Comply with this AD within the compliance times specified, unless already done.

(g) Install Kick-Load Retainers

Within 12 months after the effective date of this AD, install kick-load retainers on the galley 5 trolley compartments as specified in paragraph (g)(1), (g)(2), or (g)(3) of this AD, as applicable. For airplanes on which galley 5 is not installed, no action is required by this paragraph.

(1) For Airbus Model A319-115 airplanes, manufacturer's serial numbers 5678, 5698, 5704, 5745, 5753, 5761, 5781, 5786, 5788, 5789, 5798, 5810, 5827, and 5842, do the installation in accordance with the Accomplishment Instructions of Airbus Service Bulletin A320-25-1B29, dated June 19, 2014.

(2) For Airbus Model A320-232 airplanes, manufacturer's serial numbers 5458, 5517, 5624, and 5804, do the installation in accordance with the Accomplishment Instructions of Airbus Service Bulletin A320-25-1B30, dated June 19, 2014.

(3) For airplanes not identified in paragraph (g)(1) or (g)(2) of this AD, do the installation using a method approved by the Manager, International Section, Transport Standards Branch, FAA; or the European Aviation Safety Agency (EASA); or Airbus's EASA Design Organization Approval (DOA).

(h) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (i)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA Design Organization Approval (DOA). If approved by the DOA, the approval must include the DOA-authorized signature.

(i) Related Information

(1) Refer to Mandatory Continuing Airworthiness Information (MCAI) EASA Airworthiness Directive 2016-0040, dated March 2, 2016, for related information. This MCAI may be found in the AD docket on the Internet at http://www.regulations.gov by searching for and locating Docket No. FAA-2016-9519.

(2) For more information about this AD, contact Sanjay Ralhan, Aerospace Engineer, International Section, Transport Standards Branch, FAA, 1601 Lind Avenue SW., Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Standards Branch, 1601 Lind Avenue SW., Renton, WA. For information on the availability of this material at the FAA, call 425-227-1221.

Issued in Renton, Washington, on October 11, 2017.
Dionne Palermo,
Acting Director, System Oversight Division, Aircraft Certification Service.

[FR Doc. 2017-22556 Filed 11-8-17; 8:45 am]

BILLING CODE 4910-13-P